DEPARTMENT OF THE INTERIOR

Bureau of Land Management

[LLCOS00000 L12200000.PM0000-17X]

Notice of Public Meeting, Southwest Resource Advisory Council

AGENCY: Bureau of Land Management, Interior.

ACTION: Notice.

SUMMARY: In accordance with the Federal Land Policy and Management Act and the Federal Advisory Committee Act of 1972, the U.S. Department of the Interior, Bureau of Land Management (BLM) Southwest Resource Advisory Council (RAC) is scheduled to meet as indicated below.

DATES: The meeting will be held on March 31, 2017, from 9 a.m. to 4 p.m. A public comment time regarding matters on the agenda will be held at 11:30 a.m.

ADDRESSES: The meeting will be held at the Montrose County Fairgrounds (Pioneer Room), 1001 N. Second St., Montrose, CO 81401.

FOR FURTHER INFORMATION CONTACT: Shannon Borders, Public Affairs Specialist; 970-240-5300; 2505 S. Townsend Ave., Montrose, CO 81401. Persons who use a telecommunications device for the deaf (TDD) may call the Federal Relay Service (FRS) at 1-800-877-8339 to contact this office during normal business hours. The FRS is available 24 hours a day, seven days a week, to leave a message or question with this office. You will receive a reply during normal business hours.

SUPPLEMENTARY INFORMATION: The Southwest RAC advises the Secretary of the Interior, through the BLM, on a variety of public land issues in Colorado. Topics of discussion for the meeting may include field manager and working group reports, recreation, fire management, land use planning, invasive species management, energy and minerals management, travel management, wilderness, land exchange proposals, cultural resource management, and other issues, as appropriate.

This meeting will be open to the public. As noted above, the RAC meeting also will allocate time for public comments. Depending on the number of people who wish to comment and the time available, the time for individual oral comments may be limited. Attendees may also submit written comments for the RAC's consideration. Before including your address, phone number, email address, or other personal identifying information in your comment, you should be aware that your entire comment—including your personal identifying information—may be made publicly available at any time. While you can ask us in your comment to withhold your personal identifying information from public review, we cannot guarantee that we will be able to do so.

Summary minutes for the RAC meeting will be available for public inspection within 30 days following the meeting at https://www.blm.gov/get-involved/resource-advisory-council/near-you/colorado/southwest-rac/minutes.

Ruth Welch,
BLM Colorado State Director.

[FR Doc. 2017-04163 Filed 3-2-17; 8:45 am]

BILLING CODE 4310-JB-P